DEPARTMENT OF ENERGY

Federal Energy Regulatory Commission

Combined Notice of Filings #2

Take notice that the Commission received the following electric rate filings:

Docket Numbers: ER10-2390-002; ER10-2394-004; ER10-2395-004; ER10-2422-004; ER11-3642-017; ER12-1562-004; ER12-1563-004.

Applicants: Bicent (California) Malburg LLC, BIV Generation Company, L.L.C., Cayuga Operating Company, LLC, Colorado Power Partners, Rocky Mountain Power, LLC, Somerset Operating Company, LLC, Tanner Street Generation, LLC.

Description: Notice of Non-Material Change in Status of Bicent (California) Malburg LLC, et al.

Filed Date: 10/16/17.

Accession Number: 20171016-5154.

Comments Due: 5 p.m. ET 11/6/17.

Docket Numbers: ER17-2414-001.

Applicants: Midcontinent Independent System Operator, Inc.

Description: Tariff Amendment: 2017-10-16_SA 3042 Crowned Ridge-OTP Sub GIA (J442) to be effective 8/21/2017.

Filed Date: 10/16/17.

Accession Number: 20171016-5169.

Comments Due: 5 p.m. ET 10/23/17.

Docket Numbers: ER17-2443-001.

Applicants: Midcontinent Independent System Operator, Inc.

Description: Tariff Amendment: 2017-10-16_SA 3046 Upland Prairie-MEC GIA (J455) Sub Appendices to be effective 8/23/2017.

Filed Date: 10/16/17.

Accession Number: 20171016-5175.

Comments Due: 5 p.m. ET 10/23/17.

Docket Numbers: ER17-2444-001.

Applicants: Midcontinent Independent System Operator, Inc.

Description: Tariff Amendment: 2017-10-16_SA 3045 Ida Grove-MEC Sub GIA (J412) to be effective 8/23/2017.

Filed Date: 10/16/17.

Accession Number: 20171016-5191.

Comments Due: 5 p.m. ET 10/23/17.

Docket Numbers: ER18-76-000.

Applicants: Twin Eagle Resource Management, LLC.

Description: § 205(d) Rate Filing: Amend Market-Based Rate Tariff to be effective 12/16/2017.

Filed Date: 10/16/17.

Accession Number: 20171016-5119.

Comments Due: 5 p.m. ET 11/6/17.

Docket Numbers: ER18-77-000.

Applicants: ISO New England Inc.

Description: § 205(d) Rate Filing: 2018 Capital Budget and Revised Tariff Sheets for Recovery of 2018 Admin. Costs to be effective 1/1/2018.

Filed Date: 10/16/17.

Accession Number: 20171016-5120.

Comments Due: 5 p.m. ET 11/6/17.

Docket Numbers: ER18-78-000.

Applicants: Bicent (California) Malburg LLC.

Description: § 205(d) Rate Filing: Notice of Change in Category Seller to be effective 10/17/2017.

Filed Date: 10/16/17.

Accession Number: 20171016-5124.

Comments Due: 5 p.m. ET 11/6/17.

Docket Numbers: ER18-79-000.

Applicants: Public Service Electric and Gas Company.

Description: § 205(d) Rate Filing: PECO PSE&G Amtrak to be effective 7/1/2017.

Filed Date: 10/16/17.

Accession Number: 20171016-5131.

Comments Due: 5 p.m. ET 11/6/17.

Docket Numbers: ER18-80-000.

Applicants: New York Independent System Operator, Inc.

Description: § 205(d) Rate Filing: NYISO 205: Comprehensive Queue Reform to be effective 12/16/2017.

Filed Date: 10/16/17.

Comments Due: 5 p.m. ET 11/6/17.

Docket Numbers: ER18-81-000.

Applicants: ISO New England Inc.

Description: ISO New England Inc. submits Third Quarter 2017 Capital Budget Report.

Filed Date: 10/16/17.

Accession Number: 20171016-5157.

Comments Due: 5 p.m. ET 11/6/17.

Docket Numbers: ER18-82-000.

Applicants: Southern California Edison Company.

Description: § 205(d) Rate Filing: SCE Two GIAs Syracuse Solar, LLC and Tours Solar, LLC to be effective 10/17/2017.

Filed Date: 10/16/17.

Accession Number: 20171016-5163.

Comments Due: 5 p.m. ET 11/6/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 16, 2017.
Nathaniel J. Davis, Sr.,
Deputy Secretary.

[FR Doc. 2017-22889 Filed 10-20-17; 8:45 am]

BILLING CODE 6717-01-P